DEPARTMENT OF TRANSPORTATION

Federal Highway Administration

Privacy Act of 1974: System of Records

AGENCY: Federal Highway Administration, Department of Transportation (DOT).

ACTION: Notice of establishment of a system of records.

SUMMARY: DOT intends to establish a system of records under the Privacy Act of 1974.

DATES: Effective Date: January 8, 2007. If no comments are received, the proposal will become effective on the above date. If comments are received, the comments will be considered and, where adopted, the documents will be republished with changes.

FOR FURTHER INFORMATION CONTACT: Steven Lott, Department of Transportation, Office of the Secretary, 400 7th Street, SW., Washington, DC 20590, (202) 366-1314 (telephone), (202) 366-7373 (fax), Steven.Lott@dot.gov (Internet address).

SUPPLEMENTARY INFORMATION: The Department of Transportation system of records notice subject to the Privacy Act of 1974 (5 U.S.C. 552a), as amended, has been published in the Federal Register and is available from the above mentioned address.

SYSTEM NUMBER: DOT/FHWA 078

System name:

Correspondence Tracking System.

Security classification:

Sensitive, unclassified.

System location:

This system is in the Office of Administration for the Federal Highway Administration (FHWA), 400 Seventh Street, SW., Room P2, Washington, DC 20590.

Categories of individuals covered by the system of records:

Individuals who submit letters, e-mail, and faxes (correspondence) to FHWA and to DOT about matters under FHWA's purview.

Categories of records in the system:

The system contains records and related correspondence on individuals and groups who have sent correspondence expressing opinions or concerns, or are requesting information.

Authority for maintenance of the system:

49 U.S.C. 322.

Purposes:

These records are maintained to track the receipt of and/or progress of replies to incoming correspondence. The records also track an electronic copy of incoming and outgoing correspondence.

Routine uses of records maintained in the system, including categories of users and the purposes of such uses:

To those entities/individuals within DOT and/or another Federal, state, tribal, or local agency, who can aid in responding to the issues and concerns raised in the incoming correspondence. Therefore, the routines uses are compatible with the purpose of collecting the information. See Prefatory Statement of General Routine Uses.

Disclosure to consumer reporting agencies:

None.

Policies and practices for storing, retrieving, accessing, retaining, and disposing of records in the system:

Storage:

These records are stored in a database maintained under current FHWA application and hardware security requirements. Designated FHWA employees in each FHWA organization are granted access to the data for the purpose of downloading data to produce reports for local management use. These employees access the database through FHWA's secure intranet. Data downloaded by FHWA organizations may be retained on Local Area Network drives and may be in hardcopy format when required.

Retrievability:

Records are retrieved by the name of the individuals or groups who wrote the correspondence, the tracking control number, the subject matter, and the date of the incoming document.

Safeguards:

Computer records are maintained in a secure, password-protected computer system. Paper records are maintained in a lockable file cabinet in a lockable room. All records are maintained in a secure, access-controlled area of the building.

Retention and disposal:

The records in this system of records are retained and disposed of in accordance with the approved records disposition schedules in FHWA Order M 1324.1A, Files Management and Records Disposition Manual.

System Manager(s) and address:

Mary Peterson, FHWA Executive Secretariat, 400 Seventh Street, SW., Room 4207, Washington, DC 20590.

Notification procedure:

Write to the System Manager.

Record access procedures:

Write to the System Manager. Provide full name and a description of information that you seek, including the time frame during which the records may have been generated.

Contesting record procedures:

Write to the System Manager. Identify the information being contested, the reason for contesting it, and the correction requested.

Record source categories:

The records are obtained from the individuals themselves who send correspondence, faxes or e-mails, etc.

Exemptions claimed for the system:

None.

Dated: November 21, 2006.
Steven Lott,
Departmental Privacy Officer.

[FR Doc. E6-20114 Filed 11-27-06; 8:45 am]

BILLING CODE 4910-62-P